DEPARTMENT OF EDUCATION

2025-2026 Award Year Deadline Dates for Reports and Other Records Associated With the Free Application for Federal Student Aid (FAFSA), the Federal Supplemental Educational Opportunity Grant Program (FSEOG) Program, the Federal Work-Study (FWS) Program, the Federal Pell Grant (Pell Grant) Program, the William D. Ford Federal Direct Loan (Direct Loan) Program, and the Teacher Education Assistance for College and Higher Education (TEACH) Grant Program

AGENCY: Federal Student Aid, Department of Education.

ACTION: Notice.

SUMMARY: The Secretary announces deadline dates for the receipt of documents and other information from applicants and institutions participating in certain Federal student aid programs authorized under title IV of the Higher Education Act of 1965, as amended (HEA), for the 2025-2026 award year. These programs, administered by the Department of Education (Department), provide financial assistance to students attending eligible postsecondary educational institutions to help them pay their educational costs. The Federal student aid programs (title IV, HEA programs) covered by this deadline date notice are the Pell Grant, Direct Loan, TEACH Grant, and Campus-Based (FSEOG and FWS) programs. Assistance Listing Numbers: 84.007 FSEOG Program; 84.033 FWS Program; 84.063 Pell Grant Program; 84.268 Direct Loan Program; and 84.379 TEACH Grant Program.

DATES: Deadline and Submission Dates: See Tables A and B at the end of this notice.

FOR FURTHER INFORMATION CONTACT: Heather Hall Lewis, U.S. Department of Education, Federal Student Aid Telephone: (202) 453-6519. Email: Heather.HallLewis@ed.gov.

If you are deaf, hard of hearing, or have a speech disability and wish to access telecommunications relay services, please dial 7-1-1.

SUPPLEMENTARY INFORMATION: Table A—2025-2026 Award Year Deadline Dates by Which a Student Must Submit the FAFSA Form, by Which the Institution Must Receive the Student's Institutional Student Information Record (ISIR) or FAFSA Submission Summary, and by Which the Institution Must Submit Verification Outcomes for Certain Students.

Table A provides information and deadline dates for receipt of the FAFSA form, corrections to and signatures for the FAFSA form, ISIRs, and FAFSA Submission Summary, and verification documents.

The deadline date for the receipt of a FAFSA form by the Department's FAFSA Processing System (FPS) is June 30, 2026, regardless of the method that the applicant uses to submit the FAFSA form. The deadline date for the receipt of corrections, notices of change of address or institution, or requests for a duplicate FAFSA Submission Summary is September 12, 2026.

For all title IV, HEA programs, an ISIR or FAFSA Submission Summary for the student must be received by the institution no later than the student's last date of enrollment for the 2025-2026 award year or September 19, 2026, whichever is earlier. Note that a FAFSA form must be submitted and an ISIR or FAFSA Submission Summary received for the dependent student for whom a parent is applying for a Direct PLUS Loan.

Except for students selected for Verification Tracking Groups V4 and V5, verification documents must be received by the institution no later than 120 days after the student's last date of enrollment for the 2025-2026 award year or September 19, 2026, whichever is earlier. For students selected for Verification Tracking Groups V4 and V5, institutions must submit identity verification results no later than 60 days following the institution's first request to the student to submit the documentation or October 28, 2025 (60 days after the release of the Verification of Identity functionality in the FAFSA Partner Portal) for the 2025-2026 Award Year, whichever is later.

For all title IV, HEA programs except for (1) Direct PLUS Loans that will be made to parent borrowers, and (2) Direct Unsubsidized Loans that will be made to dependent students who have been determined by the institution, pursuant to section 479A(a) of the HEA, to be eligible for such a loan without providing parental information on the FAFSA, the ISIR or FAFSA Submission Summary must have an official Student Aid Index (SAI) and the ISIR or FAFSA Submission Summary must be received by the institution no later than the earlier of the student's last date of enrollment for the 2025-2026 award year or September 19, 2026. For the two exceptions mentioned above, the ISIR or FAFSA Submission Summary must be received by the institution by the same dates noted in this paragraph, but the ISIR or FAFSA Submission Summary is not required to have an official SAI.

For a student who is requesting aid through the Pell Grant, FSEOG, or FWS programs or for a student requesting Direct Subsidized Loans, who does not meet the conditions for a late disbursement under 34 CFR 668.164(j), a valid ISIR or valid FAFSA Submission Summary must be received by the institution by the student's last date of enrollment for the 2025-2026 award year or September 19, 2026, whichever is earlier.

In accordance with 34 CFR 668.164(j)(4)(i), an institution may not make a late disbursement of title IV, HEA program funds later than 180 days after the date of the institution's determination that the student was no longer enrolled. Table A provides that, to make a late disbursement of title IV, HEA program funds, an institution must receive a valid ISIR or valid FAFSA Submission Summary no later than 180 days after its determination that the student was no longer enrolled, but not later than September 19, 2026.

Table B—2025-2026 Award Year Deadline Dates by Which an Institution Must Submit Disbursement Information for the Pell Grant, Direct Loan, and TEACH Grant Programs.

For the Pell Grant, Direct Loan, and TEACH Grant programs, Table B provides the earliest disbursement date, the earliest dates for institutions to submit disbursement records to the Department's Common Origination and Disbursement (COD) System, and deadline dates by which institutions must submit disbursement and origination records.

For the 2025-2026 Award Year, an institution must submit Pell Grant, Direct Loan, and TEACH Grant disbursement records to COD, no later than November 30, 2026 or 15 days after making the disbursement or becoming aware of the need to adjust a previously reported disbursement, whichever is later. In accordance with 34 CFR 668.164(a), title IV, HEA program funds are disbursed on the date that the institution: (a) credits those funds to a student's account in the institution's general ledger or any subledger of the general ledger; or (b) pays those funds to a student directly. Title IV, HEA program funds are disbursed even if an institution uses its own funds in advance of receiving program funds from the Department.

An institution's failure to submit disbursement records within the required timeframe may result in the Department rejecting all or part of the reported disbursement. Such failure may also result in an audit or program review finding or the initiation of an adverse action, such as a fine or other penalty for such failure, in accordance with subpart G of the General Provisions regulations in 34 CFR part 668.

Deadline Dates for Enrollment Reporting by Institutions.

In accordance with 34 CFR 674.19(f), 682.610(c), 685.309(b), and 690.83(b)(2), upon receipt of an enrollment report from the Secretary, institutions must update all information included in the report and return the report to the Secretary in a manner and format prescribed by the Secretary and within the timeframe prescribed by the Secretary. Consistent with the National Student Loan Data System (NSLDS) Enrollment Reporting Guide, the Secretary has determined that institutions must report at least every two months. Institutions may find the NSLDS Enrollment Reporting Guide in the “Knowledge Center” via Federal Student Aid's (FSA) Partner Connect website at: https://fsapartners.ed.gov/knowledge-center.

Other Sources for Detailed Information.

We publish a detailed discussion of the FAFSA application process in the Application and Verification Guide volume of the 2025-2026 Federal Student Aid Handbook and in Volume 6 of the 2025-2026 FAFSA Specifications Guide.

Information on the institutional reporting requirements for the Pell Grant, Direct Loan, Federal Work-Study, and TEACH Grant programs is included in the 2025-2026 Common Origination and Disbursement (COD) Technical Reference. Also, see the NSLDS Enrollment Reporting Guide.

You may access these publications by visiting the “Knowledge Center” via FSA's Partner Connect website at: https://fsapartners.ed.gov/knowledge-center.

Additionally, the 2025-2026 award year reporting deadline dates for the Federal Perkins Loan, FWS, and FSEOG programs were published in the Federal Register on May 22, 2025 (90 FR 21909).

Applicable Regulations: The following regulations apply:

(1) Student Assistance General Provisions, 34 CFR part 668.

(2) Federal Pell Grant Program, 34 CFR part 690.

(3) William D. Ford Direct Loan Program, 34 CFR part 685.

(4) Teacher Education Assistance for College and Higher Education Grant Program, 34 CFR part 686.

(5) Federal Work-Study Programs, 34 CFR part 675.

(6) Federal Supplemental Education Opportunity Grant Program, 34 CFR part 676.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Program Authority: 20 U.S.C. 1070a, 1070b-1070b-4, 1070g, 1070h, 1087a-1087j, 1087aa-1087ii, and 1087-51-1087-58.

Richard Lucas,
Acting Chief Operating Officer, Federal Student Aid.

Table A—2025-2026 Award Year Deadline Dates by Which a Student Must Submit the FAFSA Form, by Which the Institution Must Receive the Student's Institutional Student Information Record (ISIR) or FAFSA Submission Summary, and by Which the Institution Must Submit Verification Outcomes for Certain Students
Who submits? | What is submitted? | Where is it submitted? | What is the deadline date for receipt?
Student | FAFSA—fafsa.gov (original or renewal) | Electronically to the Department's FAFSA Processing System (FPS) | June 30, 2026.
Student | A paper original FAFSA | To the address printed on the FAFSA | June 30, 2026.
Student | Electronic corrections to the FAFSA using fafsa.gov | Electronically to the Department's FPS | September 12, 2026.¹
Student through an Institution | Electronic corrections to the FAFSA | Electronically to the Department's FPS using the FAFSA Partner Portal | September 12, 2026.¹
Student | Paper corrections to the FAFSA using a FAFSA Submission Summary, including change of mailing and email addresses and change of institutions | To the address printed on the FAFSA Submission Summary | September 12, 2026.
Student | A FAFSA Submission Summary with an official SAI calculated by the Department's FPS, except for Parent PLUS Loans and Direct Unsubsidized Loans made to a dependent student under HEA section 479A(a), for which the FAFSA Submission Summary does not need to have an official SAI | To the institution | The earlier of: —The student's last date of enrollment for the 2025-2026 award year; or —September 19, 2026.²
Student through FPS | An ISIR with an official SAI calculated by the Department's FPS, except for Parent PLUS Loans and Direct Unsubsidized Loans made to a dependent student under HEA section 479A(a), for which the ISIR does not need to have an official SAI | To the institution from the Department's FPS
Student | Valid FAFSA Submission Summary (Pell Grant, FSEOG, FWS, and Direct Subsidized Loans) | To the institution | Except for a student meeting the conditions for a late disbursement under 34 CFR 668.164(j), the earlier of: —The student's last date of enrollment for the 2025-2026 award year; or —September 19, 2026.²
Student through FPS | Valid ISIR (Pell Grant, FSEOG, FWS, and Direct Subsidized Loans) | To the institution from the Department's FPS
Student | Valid FAFSA Submission Summary (Pell Grant, FSEOG, FWS, and Direct Subsidized Loans) | To the institution | For a student receiving a late disbursement under 34 CFR 668.164(j)(4)(i), the earlier of: —180 days after the date of the institution's determination that the student withdrew or otherwise became ineligible; or —September 19, 2026.²
Student through FPS | Valid ISIR (Pell Grant, FSEOG, FWS, and Direct Subsidized Loans) | To the institution from the Department's FPS
Student | Verification documents | To the institution | The earlier of: ³ —120 days after the student's last date of enrollment for the 2025-2026 award year; or —September 19, 2026.²
Institution | Identity verification results for a student selected for verification by the Department and placed in Verification Tracking Group V4 or V5 | Electronically to the Department's FPS using the FAFSA Partner Portal | The later of: —60 days following the institution's first request to the student to submit the required V4 or V5 identity documentation; or —when the FAFSA Partner Portal Verification of Identity function is made available for the 2025-2026. Award Year.⁴
¹ The deadline for electronic transactions is 11:59 p.m. (Central Time) on the deadline date. Transmissions must be completed and accepted before 12:00 midnight to meet the deadline. If transmissions are started before 12:00 midnight but are not completed until after 12:00 midnight, those transmissions do not meet the deadline. In addition, any transmission submitted on or just prior to the deadline date that is rejected may not be reprocessed because the deadline will have passed by the time the user gets the information notifying them of the rejection.
² The date the ISIR/FAFSA Submission Summary transaction was processed by FPS is considered to be the date the institution received the ISIR or FAFSA Submission Summary regardless of whether the institution has downloaded the ISIR from its Student Aid Internet Gateway (SAIG) mailbox or when the student submits the FAFSA Submission Summary to the institution.
³ Although the Secretary has set this deadline date for the submission of verification documents, if corrections are required, deadline dates for submission of paper or electronic corrections and, for Pell Grant applicants and applicants selected for verification, deadline dates for the submission of a valid FAFSA Submission Summary or valid ISIR to the institution must still be met. An institution may establish an earlier deadline for the submission of verification documents for purposes of the Campus-Based programs and the Direct Loan Program, but it cannot be later than this deadline date.
⁴ Note that changes to previously submitted identity verification results must be updated within 30 days of the institution becoming aware that a change has occurred.

Table B—2025-2026 Award Year Deadline Dates by Which an Institution Must Submit Disbursement Information for the Pell Grant, Direct Loan and TEACH Grant Programs ¹
Which program? | What is submitted? | Under what circumstances is it submitted? | Where is it submitted? | What are the deadlines for disbursement and for submission of records and information?
Pell Grant, Direct Loan, and TEACH Grant Programs | An origination or disbursement record | The institution has made or intends to make a disbursement | To the Common Origination and Disbursement (COD) System using the Student Aid Internet Gateway (SAIG); or to the COD System using the COD website at: https://cod.ed.gov | The earliest disbursement date for the Pell Grant is January 31, 2025. The earliest disbursement date for Direct Loan Program is October 1, 2024. The earliest disbursement date for TEACH Grant Program is January 1, 2025. The earliest submission date for anticipated disbursement information is March 23, 2025.
|  |  |  | The earliest submission date for actual disbursement information is March 23, 2025, but no earlier than: (a) 7 calendar days prior to the disbursement date under the advance payment method or the Heightened Cash Monitoring Payment Method 1 (HCM1); or (b) The disbursement date under the reimbursement or the Heightened Cash Monitoring Payment Method 2 (HCM2).
Pell Grant and TEACH Grant Programs | An origination or disbursement record | The institution has made a disbursement and will submit records on or before the deadline submission date | To COD using SAIG; or to COD using the COD website at: https://cod.ed.gov | The deadline submission date ² is the later of: (a) November 30, 2025; (b) 15 calendar days after the institution makes a disbursement.
|  |  |  | Submission of Pell Grant and TEACH Grant disbursement information must occur no later than September 30, 2026.
Direct Loan Program | An origination or disbursement record | The institution has made a disbursement and will submit records on or before the deadline submission date | To COD using SAIG; or to COD using the COD website at: https://cod.ed.gov | The deadline submission date ² is the later of: (a) November 30, 2025; or (b) 15 calendar days after the institution makes a disbursement.
|  |  |  | Submission of Direct Loan disbursement information must occur no later than July 30, 2027
Pell Grant Program | A downward (decrease) adjustment to an origination or disbursement record | It is after the deadline submission date | To COD using SAIG; or to COD using the COD website at: https://cod.ed.gov | No later than the earlier of: (a) 15 calendar days after the institution becomes aware of the need to make an adjustment to previously reported data; or (b) September 30, 2031.² No request for extension to the deadline submission date is required.
TEACH Grant and Direct Loan Programs | A downward (decrease) adjustment to an origination or disbursement record | It is after the deadline submission date | To COD using SAIG; or to COD using the COD website at https://cod.ed.gov | No later than 15 calendar days after the institution becomes aware of the need to make an adjustment to previously reported data. No request for extension to the deadline submission date is required.
Pell Grant Program | An upward (increase) adjustment to an origination or disbursement record | It is after the deadline submission date and the institution has received approval of its request for an extension to the deadline submission date Requests for extensions to the established submission deadlines may be made for reasons including, but not limited to: (a) A program review or initial audit finding under 34 CFR 690.83; (b) A late disbursement under 34 CFR 668.164(j); or (c) Disbursements previously blocked as a result of another institution failing to post a downward adjustment | Via the COD website at: https://cod.ed.gov | No later than the earlier of: (a) 15 calendar days after the institution becomes aware of the need to make an adjustment to previously reported data; or (b) When the institution is fully reconciled and is ready to submit all additional data for the program and the award year; or (c) September 30, 2031.
TEACH Grant and Direct Loan Programs | An upward (increase) adjustment or a new origination or disbursement record |  |  | No later than the earlier of: (a) 15 calendar days after the institution becomes aware of the need to make an adjustment to previously reported data; or (b) When the institution is fully reconciled and is ready to submit all additional data for the program and the award year.
Pell Grant Program | An origination or disbursement record | It is after the deadline submission date and the institution has received approval of its request for an extension to the deadline submission date based on a natural disaster, other unusual circumstances, or an administrative error made by the Department | Via the COD website at: https://cod.ed.gov | The earlier of: (a) A date designated by the Secretary after consultation with the institution; or (b) February 1, 2027.
Pell Grant Program | An origination or disbursement record | It is after the deadline submission date and the institution has received approval of its request for administrative relief to extend the deadline submission date based on a student's reentry to the institution within 180 days after initially withdrawing.³ | Via the COD website at: https://cod.ed.gov | The earlier of: (a) 15 days after the student reenrolls; or (b) May 3, 2027.
¹ A COD Processing Year is a period of time in which institutions are permitted to submit Direct Loan records to the COD System that are related to a given award year. For a Direct Loan, the period of time includes loans that have a loan period covering any day in the 2025-2026 award year.
² Transmissions must be completed and accepted before the designated processing time on the deadline submission date. The designated processing time is published annually via an electronic announcement posted to the Knowledge Center via FSA's Partner Connect website at: https://fsapartners.ed.gov/knowledge-center. If transmissions are started at the designated time, but are not completed until after the designated time, those transmissions will not meet the deadline. In addition, any transmission submitted on or just prior to the deadline date that is rejected may not be reprocessed because the deadline will have passed by the time the user gets the information notifying him or her of the rejection.
³ Applies only to students enrolled in clock-hour and nonterm credit-hour educational programs.
Note: The COD System must accept origination data for a student from an institution before it accepts disbursement information from the institution for that student. Institutions may submit origination and disbursement data for a student in the same transmission. However, if the origination data is rejected, the disbursement data is rejected.

[FR Doc. 2025-22377 Filed 12-9-25; 8:45 am]

BILLING CODE 4000-01-P